DEPARTMENT OF ENERGY

[GDO Docket No. EA-465-A]

Application for Renewal of Authorization To Export Electric Energy; Brookfield Renewable Trading and Marketing LP

AGENCY: Grid Deployment Office, Department of Energy.

ACTION: Notice of application.

SUMMARY: Brookfield Renewable Trading and Marketing LP (the Applicant or BRTM) has applied for renewed authorization to transmit electric energy from the United States to Canada pursuant to the Federal Power Act.

DATES: Comments, protests, or motions to intervene must be submitted on or before March 11, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On March 26, 2019, DOE issued Order No. EA-465, authorizing BRTM to transmit electric energy from the United States to Canada as a power marketer. On January 11, 2024, BRTM filed an application with DOE (Application or App.) for renewal of their export authority for an additional five-year term. App. at 1.

According to the Application, Brookfield Energy Marketing LLC owns a 0.01 percent general partner interest in BRTM, and Brookfield Power New York Holding Corporation (BPNYHO) owns a 99.99 percent limited partner interest in BRTM. App. at 1. Brookfield Energy Market LLC is a Delaware limited liability company and wholly-owned subsidiary of Brookfield Power US Holding America Company (BPUSHA). Id. BPNYHO is a Delaware corporation and a wholly-owned indirect subsidiary of BPUSHA. Id.

The Applicant states it does not “own or control any electric generation, transmission, or distribution facilities in the United States and does not have a franchise or service territory for the transmission, distribution or sale of electricity.” App. at 3. However, the Applicant “operates as a wholesale marketer of electric energy and as electric energy agent to Brookfield Renewable, which owns companies regulated as public utilities under the FPA and companies owning qualifying facilities.” Id. BRTM notes it has “market-based rate authorization issued by the Federal Energy Regulatory Commission (`FERC') under Section 205 of the FPA.” Id.

The Applicant asserts that it “does not have a franchised service area and, consequently, has no native load obligations” and will purchase the electric energy that it exports from electric utilities, qualifying cogeneration facilities, qualifying small power production facilities, Independent System Operators, Regional Transmission Operators, or from other exempt wholesale generators. App. at 6. Therefore, BRTM contends that “the electric energy that will be sold to BRTM is surplus to the needs of the selling entities” and “will not impair the sufficiency of the electric energy supply within the United States.” Id. BRTM also states it will comply with existing industry procedures for obtaining transmission capacity and asserts the proposed transmission would not impede or tend to impede the coordination in the public interest of facilities subject to DOE's jurisdiction. Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning BRTM's Application should be clearly marked with GDO Docket No. EA-465-A. Additional copies are to be provided directly to the Senior Director, Legal, Attn: EMR Legal, Brookfield Renewable Trading and Marketing LP, 200 Liberty Street, 14th Floor, New York, New York 10281, EMRLegal@brookfieldrenewable.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on January 30, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on February 6, 2024.
Treena V. Garrett,
Federal Register Liaison Officer, U.S. Department of Energy.

[FR Doc. 2024-02678 Filed 2-8-24; 8:45 am]

BILLING CODE 6450-01-P